INTERNATIONAL TRADE COMMISSION

[Inv. Nos. 731-TA-846-850 (Review)]

Carbon and Alloy Seamless Standard, Line, and Pressure Pipe From the Czech Republic, Japan, Mexico, Romania, and South Africa

Determinations

On the basis of the record ¹ developed in the subject five-year reviews, the United States International Trade Commission (Commission) determines, pursuant to section 751(c) of the Tariff Act of 1930 (19 U.S.C. 1675(c)) (the Act), that revocation of the antidumping duty orders on small diameter carbon and alloy seamless standard, line, and pressure pipe from Japan and Romania ² and large diameter carbon and alloy seamless standard, line, and pressure pipe from Japan would be likely to lead to continuation or recurrence of material injury to an industry in the United States within a reasonably foreseeable time.

¹ The record is defined in sec. 207.2(f) of the Commission's Rules of Practice and Procedure (19 CFR 207.2(f)).

² Vice Chairman Deanna Tanner Okun and Commissioners Jennifer A. Hillman and Daniel R. Pearson dissenting with regard to imports from Romania.

The Commission also determines that revocation of the antidumping duty orders on small diameter carbon and alloy seamless standard, line, and pressure pipe from the Czech Republic and South Africa ³ and large diameter carbon and alloy seamless standard, line, and pressure pipe from Mexico ⁴ would not be likely to lead to continuation or recurrence of material injury to an industry in the United States within a reasonably foreseeable time.

³ Chairman Stephen Koplan and Commissioner Charlotte R. Lane dissenting.

⁴ Chairman Stephen Koplan and Commissioner Charlotte R. Lane dissenting.

Background

The Commission instituted these reviews on May 2, 2005 (70 FR 22688) and determined on August 5, 2005 that it would conduct full reviews (70 FR 49680, August 24, 2005). Notice of the scheduling of the Commission's reviews and of a public hearing to be held in connection therewith was given by posting copies of the notice in the Office of the Secretary, U.S. International Trade Commission, Washington, DC, and by publishing the notice in the Federal Register on September 23, 2005 (70 FR 55917).⁵ The hearing was held in Washington, DC, on March 2, 2006, and all persons who requested the opportunity were permitted to appear in person or by counsel.

⁵ The Commission revised its schedule effective February 10, 2006 (71 FR 8311, February 16, 2006).

The Commission transmitted its determinations in these reviews to the Secretary of Commerce on April 26, 2006. The views of the Commission are contained in USITC Publication 3850 (April 2006), entitled Carbon and Alloy Seamless Standard, Line, and Pressure Pipe from the Czech Republic, Japan, Mexico, Romania, and South Africa: Investigation Nos. 731-TA-846-850 (Review).

By order of the Commission.
Issued: April 24, 2006.
Marilyn R. Abbott,
Secretary to the Commission.

[FR Doc. E6-6362 Filed 4-26-06; 8:45 am]

BILLING CODE 7020-02-P